DEPARTMENT OF THE INTERIOR

National Park Service

Notice of Inventory Completion: Franklin Pierce College, Rindge, NH

AGENCY: National Park Service, Interior.

ACTION: Notice.

Notice is here given in accordance with the Native American Graves Protection and Repatriation Act (NAGPRA), 25 U.S.C. 3003, of the completion of an inventory of human remains in the possession of Franklin Pierce College, Rindge, NH. These human remains were removed from the Smyth site (NH38-4), on the upper terrace of the eastern bank of the Merrimack River above Amoskeag Falls, Manchester, Hillsborough County, NH.

This notice is published as part of the National Park Service’s administrative responsibilities under NAGPRA, 25 U.S.C. 3003 (d)(3). The determinations within this notice are the sole responsibility of the museum, institution, or Federal agency that has control of these Native American human remains. The National Park Service is not responsible for the determinations within this notice.

A detailed assessment of the human remains was made by professional staff and consultants of Franklin Pierce College, in consultation with the Abenaki Nation of Missisquoi, representing a coalition of Western Abenaki groups, consisting of the Abenaki Nation of New Hampshire, Cowasuck Band of the Pennacook-Abenaki People, and First Nation of New Hampshire (all nonfederally recognized Indian groups); the Wampanoag Confederation, representing Wampanoag Tribe of Gay Head (Aquinnah) of Massachusetts, Mashpee Wampanoag Tribe (a nonfederally recognized group), and Assonet Band of the Wampanoag Nation (a nonfederally recognized group); and the Wabanaki Confederacy, representing Aroostook Band of Micmac Indians of Maine, Houlton Band of Maliseet Indians of Maine, Indian Township Reservation of the Passamaquoddy Tribe of Maine, Penobscot Tribe of Maine, and Pleasant Point Reservation of the Passamaquoddy Tribe of Maine.

In 1968, human remains representing a minimum of eight individuals were removed from the Smyth site (NH 38-4) in Manchester, Hillsborough County, NH. Museum documentation indicates that the human remains were removed during salvage excavation at the construction site of the Amoskeag bridge, and were curated at Franklin Pierce College. No known individuals were identified. No associated funerary objects are present.

In 1997, the remains of two of these individuals were transferred from Franklin Pierce College to the New Hampshire Division of Historical Resources (NHDHR). The NHDHR determined that the two individuals in its possession could not be affiliated with an Indian tribe as defined in 25 U.S.C. 3001 (2), and presented a disposition proposal to the Native American Graves Protection and Repatriation Review Committee. According to the Review Committee’s charter, the Review Committee is responsible for recommending specific actions for disposition of culturally unidentifiable human remains. The proposal presented by the NHDHR was considered by the Review Committee at its May 1999 meeting, during which the Review Committee recommended disposition of the human remains of the two individuals to the Abenaki Nation of Missisquoi, representing a coalition of Western Abenaki groups, consisting of the Abenaki Nation of New Hampshire, Cowasuck Band of the Pennacook-Abenaki People, and First Nation of New Hampshire (all nonfederally recognized Indian groups). A Notice of Inventory Completion for the repatriation of the human remains of the two individuals was published in the Federal Register on July 9, 2002 (67 FR 45536-39).

In September 2001, Franklin Pierce College presented another disposition proposal to the Review Committee to repatriate five sets of human remains from the Smyth site that are in the possession of Franklin Pierce College to the Abenaki Nation of Missisquoi. The remains of another individual are reported in the archeological report prepared at the time of excavation of the Smyth site, but have not been located at Franklin Pierce College.

At its November 2001 meeting, the Review Committee recommended disposition of an additional five sets of human remains to the Abenaki Nation of Missisquoi contingent upon the museum’s meeting four requirements, which were confirmed in a September 3, 2002, letter from the Manager, National NAGPRA program to Franklin Pierce College. The Review Committee required that the museum submit an inventory of culturally unidentifiable human remains containing information set forth in 43 CFR 10.9 (c); that the inventory be sent to the Wabanaki Confederacy, representing Aroostook Band of Micmac Indians of Maine, Houlton Band of Maliseet Indians of Maine, Indian Township Reservation of the Passamaquoddy Tribe of Maine, Penobscot Tribe of Maine, and Pleasant Point Reservation of the Passamaquoddy Tribe of Maine; and the Wampanoag Confederation, representing Wampanoag Tribe of Gay Head (Aquinnah) of Massachusetts, Mashpee Wampanoag Tribe, and the Assonet Band of the Wampanoag Nation; that both the Wabanaki Confederacy and the Wampanoag Confederation provide written concurrence with the proposed disposition; and that a Notice of Inventory Completion be published in the Federal Register.

Franklin Pierce College, in a January 14, 2003, letter to the Review Committee, documented that three of the requirements had been met, noting that the fourth requirement would be met with the publication of this Notice of Inventory Completion.

Additional analysis, completed between November 2001 and January 2003, showed that the human remains from the five burials, which were originally reported as five sets of human remains, represent a minimum of eight individuals. The completed inventory reports a minimum of eight individuals, and correspondence from the Wabanaki Confederacy and the Wampanoag Confederation concurs with the proposed disposition of eight individuals.

The archeological and stratigraphic context for the Smyth site burials indicates a Middle or Late Woodland period date (A.D. 1-1500). Archeological, historical, and ethnographic sources, along with the oral traditions of the Western Abenaki, indicate that this portion of New Hampshire is within the aboriginal and historic homeland of the Western Abenaki from at least the Late Archaic period (3000-1000 B.C.) through the Historic period (post-A.D. 1500). The Western Abenaki are represented today by the Abenaki Nation of Missisquoi, Abenaki Nation of New Hampshire, Cowasuck Band of the Pennacook-Abenaki People, and the First Nation of New Hampshire (all nonfederally recognized Indian groups).

Officials of Franklin Pierce College have determined that, pursuant to 25 U.S.C. 3001 (9-10), the human remains listed above represent the physical remains of eight individuals of Native American ancestry. Officials of Franklin Pierce College also have determined that, pursuant to 25 U.S.C. 3001 (2), there is a relationship of shared group identity that can be reasonably traced between these Native American human remains and the Abenaki Nation of Missisquoi, representing a coalition of Western Abenaki groups, consisting of the Abenaki Nation of New Hampshire, Cowasuck Band of the Pennacook-Abenaki People, and First Nation of New Hampshire (all nonfederally recognized Indian groups).

Representatives of any other Indian tribe that believes itself to be culturally affiliated with these human remains should contact Robert G. Goodby, Assistant Professor, Department of Anthropology, Franklin Pierce College, PO Box 60, College Road, Rindge, NH 03461, telephone (603) 899-4362, before May 5, 2003. Repatriation of these human remains to the Abenaki Nation of Missisquoi, representing a coalition of Western Abenaki groups, consisting of the Abenaki Nation of New Hampshire, Cowasuck Band of the Pennacook-Abenaki People, and First Nation of New Hampshire (all nonfederally recognized Indian groups), may proceed after that date if no additional claimants come forward.

Franklin Pierce College is responsible for notifying the Abenaki Nation of Missisquoi, Abenaki Nation of New Hampshire, Aroostook Band of Micmac Indians of Maine, Assonet Band of the Wampanoag Nation, Cowasuck Band of the Pennacook-Abenaki People, First Nation of New Hampshire, Houlton Band of Maliseet Indians of Maine, Indian Township Reservation of the Passamaquoddy Tribe of Maine, Mashpee Wampanoag Tribe, Penobscot Tribe of Maine, Pleasant Point Reservation of the Passamaquoddy Tribe of Maine, Wabanaki Confederacy, Wampanoag Confederation, and Wampanoag Tribe of Gay Head (Aquinnah) of Massachusetts that this notice has been published.

Dated: February 27, 2003.
John Robbins,
Assistant Director, Cultural Resources Stewardship and Partnerships.

[FR Doc. 03-8192 Filed 4-3-03; 8:45 am]

BILLING CODE 4310-70-S